DEPARTMENT OF HEALTH AND HUMAN SERVICES

Administration for Children and Families

[CFDA Number: 93.604]

Announcement of the Award of an Urgent Single-Source Grant to the Center for Survivors of Torture in Dallas, TX.

AGENCY: Office of Refugee Resettlement, ACF, HHS.

ACTION: Announcement of the award of an urgent single-source grant to the Center for Survivors of Torture to provide mental health services for victims of torture.

SUMMARY: The Administration for Children and Families (ACF), Office of Refugee Resettlement (ORR) announces the award of an urgent single-source grant in the amount of $250,000 to the Center for Survivors of Torture (CST) in Dallas, TX, to ensure incoming refugee populations in Texas have access to mental health services.

DATES: The project period for the award is July 1, 2014 through September 29, 2015.

FOR FURTHER INFORMATION CONTACT: Kenneth Tota, Deputy Director, Office of Refugee Resettlement, 901 D. Street SW., Washington, DC 20047. Telephone: 202-401-4858. Email: kenneth.tota@acf.hhs.gov.

SUPPLEMENTARY INFORMATION: CST is the only accredited mental health care provider of specialized torture survivor mental health treatment services in Texas and the surrounding area. Many refugees have been victims of torture. Approximately 48,000 individual refugees reside in the areas covered by CST. Texas is a top resettlement location with one of the highest concentrations of refugees in the United States. In the past few years, an increasing need for mental health services has been associated with refugee populations from Iraq, Burma, and Bhutan who have suffered trauma and torture due to war and genocide in those countries. Currently, the U.S. refugee resettlement program is seeing a rise in refugees from the Democratic Republic of Congo (DRC). The United Nations High Commissioner for Refugees has determined this group is particularly at risk due to decades of extreme violence in DRC and recent arrivals have shown a compelling need for mental health services upon resettlement.

CST services are critical to meeting the mental health needs of individuals who have survived torture. They provide evaluation and counseling to children, adolescents, adults, couples, and families. Additionally, CST offers group therapy, psychosocial activities, and medication management. In addition to these direct services, CST also provides training on refugee mental health issues to other organizations in the area, including schools, health clinics, and social services agencies. During the period of April 1, 2013 through March 31, 2014, CST provided free comprehensive mental health services to 355 ORR clients. More than 82 percent of these clients experienced a reduction in symptoms.

Statutory Authority: Section 5(a) of the “Torture Victims Relief Act of 1998,” Public Law 105-320 (22 U.S.C. 2152 note).

Melody Wayland,
Senior Grants Policy Specialist, Office of Administration.

[FR Doc. 2014-30906 Filed 1-5-15; 8:45 am]

BILLING CODE 4184-46-P